ENVIRONMENTAL PROTECTION AGENCY

[OPP-00656; FRL-6554-1]

State FIFRA Issues Research and Evaluation Group (SFIREG) Pesticide Operations and Management Working Committee; Notice of Public Meeting

AGENCY: Environmental Protection Agency (EPA).

ACTION: Notice of public meeting.

SUMMARY: The State FIFRA Issues Research and Evaluation Group (SFIREG) Pesticide Operations and Management Working Committee will hold a 2-day meeting, beginning on April 17, 2000 and ending on April 18, 2000. This notice announces the location and times for the meeting and sets forth the tentative agenda topics.

DATES: The meeting will be held on Monday, April 17, 2000 from 8:30 a.m. Pacific Standard time (p.s.t.) to 5:00 p.m. p.s.t. and Tuesday, April 18, 2000 from 8:30 a.m. p.s.t. to 2:30 p.s.t..

ADDRESSES: The meeting will be held at the Sir Francis Drake Hotel on Union Square, 450 Powell Street, San Francisco, CA 94102.

FOR FURTHER INFORMATION CONTACT: Philip H. Gray, SFIREG Executive Secretary, P.O. Box 1249, Hardwick, VT 05843-1249; (802) 472-6956; fax: (802) 472-6957; e-mail address: aapco@plainfield.bypass.com or Elaine Y. Lyon, Field and External Affairs Division (7506C), Office of Pesticide Programs, Environmental Protection Agency, Ariel Rios Building, 1200 Pennsylvania Avenue, NW., Washington, DC 20460; telephone number: (703) 305-5306; fax number: (703) 308-1850; e-mail address: lyon.elaine@epa.gov.

SUPPLEMENTARY INFORMATION:

I. Does this Action Apply to Me?

This action is directed to the public in general, but all parties interested in SFIREG's information exchange relationship with EPA regarding important issues related to human health, environmental exposure to pesticides, and insight into the EPA's decision-making process are invited and encouraged to attend the meetings and participate as appropriate.

II. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register--Environmental Documents.” You can also go directly to the Federal Register listings at http://www.epa.gov/fedrgstr/. You may also obtain electronic copies of the minutes, and certain other related documents that might be available electronically, from the Association of American Pesticide Control Officials (AAPCO) Internet Home Page at http://aapco.ceris.purdue.edu/doc/index.html. To access this document, on the Home Page select “SFIREG” and then look up the entry for this document under the “SFIREG Meetings.”

2. By mail. Philip H. Gray, SFIREG Executive Secretary, P.O. Box 1249, Hardwick, VT 05843-1249.

III. Purpose of Meeting

Tentative Agenda:

1. Anti-Bacterial pesticide product labeling.

2. Pesticide product “contaminants” other than active ingredients.

3. Experimental Use Permits - Regulations and Procedures.

4. Update on Consumer Labeling Initiative.

5. Update and discussion on 25(b) pesticide regulatory notice.

6. Update and discussion on conditional registration.

7. Update and discussion on isomer pesticide products.

8. Inspector credential initiative.

9. Results and use of inspector training survey.

10. Update on rodenticide stakeholders labeling initiative.

11. Update and discussion on Internet distribution of pesticides.

12. Update on drift minimization.

13. Discussion of “Keep Out of Reach of Children” issue paper.

14. Discussion of “Reentry Label Statements” issue paper.

15. Discussion of OECA worker protection standard audit.

16. American Water Works Association letter to EPA on subject and enforcement implications.

17. Update on phosphine labeling initiative.

18. Discussion on genetically modified, plant pesticide labeling/enforcement issues.

19. Update from the Office of Pesticide Programs.

20. Update from the Office of Enforcement and Compliance Assurance.

21. Other topics as appropriate.

List of Subjects

Environmental protection.

Dated: April 6, 2000.
Jay Ellenberger,
Director, Field and External Affairs Division, Office of Pesticide Programs.

[FR Doc. 00-9098 Filed 4-11-00; 8:45 am]

BILLING CODE 6560-50-F